DEPARTMENT OF ENERGY

Federal Energy Regulatory Commission

[Docket No. EL16-116-000]

Notice of Institution of Section 206 Proceeding and Refund Effective Date

Talen Energy Marketing, LLC, Montour, LLC, Bayonne Plant Holding, L.L.C., Camden Plant Holdings, L.L.C., Elmwood Park Power, LLC, Newark Bay Cogeneration Partnership, L.P., Lower Mount Bethel Energy, LLC, York Generation Company LLC, Pedricktown Cogeneration Company LP, H.A. Wagner LLC, Brandon Shores LLC, Chief Conemaugh Power, LLC, Chief Keystone Power, LLC

On September 27, 2016, the Commission issued an order in Docket No. EL16-116-000, pursuant to section 206 of the Federal Power Act (FPA), 16 U.S.C. 824e (2012), instituting an investigation into the justness and reasonableness of the Talen Entities',¹ Chief Keystone Power, LLC's, and Chief Conemaugh Power, LLC's Reactive Service revenue requirements. Talen Energy Marketing, LLC et al., 156 FERC ¶ 61,231 (2016).

¹ Talen Energy Marketing, LLC, Montour, LLC (Montour), Bayonne Plant Holding, L.L.C., Camden Plant Holding, L.L.C., Elmwood Park Power, LLC, Newark Bay Cogeneration Partnership, L.P., Lower Mount Bethel Energy, LLC, York Generation Company LLC, Pedricktown Cogeneration Company LP, H.A. Wagner LLC, Brandon Shores LLC (collectively, Talen Entities).

The refund effective date in Docket No. EL16-116-000, established pursuant to section 206(b) of the FPA, will be the date of publication of this notice in the Federal Register.

Any interested person desiring to be heard in Docket No. EL16-116-000 must file a notice of intervention or motion to intervene, as appropriate, with the Federal Energy Regulatory Commission, 888 First Street NE., Washington, DC 20426, in accordance with Rule 214 of the Commission's Rules of Practice and Procedure, 18 CFR 385.214 (2016), within 21 days of the date of issuance of the order.

Kimberly D. Bose,
Secretary.

[FR Doc. 2016-23816 Filed 9-30-16; 8:45 am]

BILLING CODE 6717-01-P